DEPARTMENT OF COMMERCE

National Oceanic and Atmospheric Administration

[I.D. 011403A]

Fisheries of the Caribbean, Gulf of Mexico, and South Atlantic; Fisheries for Dolphin and Wahoo

AGENCY: National Marine Fisheries Service (NMFS), National Oceanic and Atmospheric Administration (NOAA), Commerce.

ACTION: Notice of agency action.

SUMMARY: NMFS, under authority granted to the Secretary of Commerce (Secretary) under section 304(f) of the Magnuson-Stevens Fishery Conservation and Management Act (Magnuson-Stevens Act), has re-designated the South Atlantic Fishery Management Council (SAFMC) as the lead council to develop a dolphin (Coryphaena hippurus and C. equiselis), and wahoo (Acanthocybium solanderi), fishery management plan (FMP) in the exclusive economic zone (EEZ) for the U.S. Atlantic coast.

FOR FURTHER INFORMATION CONTACT: Dr. Steve Branstetter, NMFS, 727-570-5305.

SUPPLEMENTARY INFORMATION: Currently, dolphin in the EEZ of the South Atlantic and Gulf of Mexico is managed under the FMP for the Coastal Migratory Pelagic Resources of the Gulf of Mexico and South Atlantic (Coastal Pelagics FMP). Wahoo in the EEZ is currently not managed under any Federal FMP. The Gulf of Mexico Fishery Management Council (GMFMC) and SAFMC have joint responsibility for developing and amending the Coastal Pelagics FMP (managed species include king mackerel, Spanish mackerel, cero, cobia, dolphin, little tunny, and bluefish in the Gulf of Mexico). The Coastal Pelagics FMP is implemented under authority of the Magnuson-Stevens Act by regulations at 50 CFR part 622. Presently, those regulations specify authorized fishing gears for dolphin.

Given the increasing fishing pressure on dolphin and wahoo, and the sparse information available on stock structure and status, the SAFMC perceived a need to provide management for dolphin and wahoo resources throughout their ranges. The SAFMC believed that present fishery conditions required timely action to prevent localized reductions in fish abundance due to heavy fishing pressure and serious user group conflicts before they occurred off the southern Atlantic states or elsewhere in the Atlantic EEZ. Consequently, on September 15, 1997, the SAFMC requested authorization under the Magnuson-Stevens Act to develop an FMP that would provide comprehensive management and protection of dolphin and wahoo in the EEZ of the Atlantic, Gulf of Mexico, and Caribbean Sea.

On March 9, 1998 (63 FR 11422), and May 5, 1998 (63 FR 24774), NMFS published documents in the Federal Register requesting public comment on the SAFMC proposal. After considering the SAFMC request, and the public comment received, NMFS, acting on behalf of the Secretary under the procedures of the Magnuson-Stevens Act, designated the SAFMC, GMFMC, and Caribbean Fishery Management Council (CFMC) as joint preparers of a new FMP for the fisheries for dolphin and wahoo throughout their range in the EEZ of the Atlantic, Gulf of Mexico, and Caribbean Sea, with the Mid-Atlantic Fishery Management Council (MAFMC) and New England Fishery Management Council (NEFMC) serving in an advisory capacity to the other Councils. Authority to designate a Council or Councils to prepare an FMP for fisheries that extend beyond one Council's geographical area of authority is granted to the Secretary under section 304(f) of the Magnuson-Stevens Act.

Subsequently, on July 16, 2002, the SAFMC requested that the Secretary allow the SAFMC to withdraw from further action to prepare a joint FMP. The SAFMC further requested that the Secretary re-designate the SAFMC as true lead for an FMP encompassing only the U.S. Atlantic coast, and excluding the Gulf of Mexico and U.S. Caribbean regions. The SAFMC submitted this request because of continued logistic delays in finalizing and implementing the jointly developed FMP. The SAFMC was concerned that these delays could exacerbate identified user conflicts specific to the fishery along the Atlantic coast.

NMFS, on behalf of the Secretary, responded to the Council in a letter dated October 9, 2002, indicating that the agency found merit with the SAFMC's proposal. NMFS still believes that a jointly developed FMP would best meet Magnuson-Stevens Act requirements to manage stocks throughout their ranges. Nevertheless, NMFS also recognizes that the National Standard Guidelines (NSG), at 50 CFR 600.320, suggest that more restrictive alternative management units may be justified if complementary management is planned for other geographic areas or if the unmanaged portions of the stocks are immaterial to proper management within the area under consideration for the alternate management unit, especially if designated alternate management units are specifically relevant to the FMP's objectives.

In the case of the dolphin and wahoo FMP, social and economic issues are identified as the SAFMC's primary objectives in the FMP. The SAFMC is not attempting to rectify a biological problem with the stocks; neither stock is overfished nor approaching an overfished condition because of overfishing. The SAFMC has specific objectives to: (1) minimize the potential for localized reductions in fish abundance, which can have economic and social impacts; (2) minimize market disruptions from intense landings by all sectors; (3) minimize conflicts and competition between recreational and commercial user groups; and (4) optimize social and economic benefits by recognizing and maintaining the historical importance of the recreational fishery.

No similar economic and social issues requiring management have been identified by the GMFMC or CFMC for their respective areas of jurisdiction. In the Gulf of Mexico, about 90 percent of the combined dolphin and wahoo commercial and recreational landings are from the west coast of Florida. Of the two species, dolphin dominate the landings, and Florida has regulations in place that restrict the commercial harvest of dolphin to hook-and-line fishing in state waters (where most of the harvest occurs), thus limiting the potential for user group conflicts. Similarly, catches and landings for both dolphin and wahoo in the Caribbean are minimal compared to the catches in the other areas, and in many instances, the catches are incidental to the catch of targeted species such as billfishes.

Therefore, NMFS sought comment on the SAFMC proposal from the affected Councils and the general public. In letters to the GMFMC, CFMC, MAFMC, and NEFMC, dated October 22, 2002, NMFS presented the SAFMC proposal and NMFS' reasons, outlined above, for supporting the proposal. Three of the four Councils responded in support the SAFMC proposal; the fourth Council did not respond. Additionally, NMFS published a Federal Register notice (67 FR 70214, November 21, 2002) seeking public comment on the SAFMC proposal. Eleven letters of comment were received from the public (see Comments and Responses below).

Based on responses from the other affected Councils and public comment, NMFS, on behalf of the Secretary, under the procedures of the Magnuson-Stevens Act, has designated the SAFMC as the lead Council to develop an FMP for the fisheries for dolphin and wahoo in the U.S. Atlantic EEZ. Under this designation the MAFMC and NEFMC would continue to serve in an advisory capacity to the SAFMC. Once completed, the dolphin/wahoo FMP or subsequent amendments would be submitted for Secretarial review, approval, and implementation.

Additionally, it will be necessary to remove the U.S. Atlantic Ocean component of the dolphin stock from management in the Coastal Migratory Pelagics (CMP) FMP. The CMP FMP is implemented under authority of the Magnuson-Stevens Act by regulations at 50 CFR part 622. The CMP FMP is a joint plan involving both the GMFMC and SAFMC, and species in the fishery include king mackerel, Spanish mackerel, cero, cobia, dolphin, little tunny, and bluefish in the Gulf of Mexico. Presently, the only regulations in the CMP FMP that pertain to dolphin are those that specify authorized fishing gears in the Atlantic and Gulf of Mexico EEZ. Removal of the U.S. Atlantic component of the dolphin stock from the CMP FMP would require a plan amendment and would have to be approved by a majority of the voting members, present and voting, of both the SAFMC and GMFMC.

Comments and Responses

In addition to three letters in support of the SAFMC proposal from Councils, eleven letters of comment were received from the public. Four letters commented only on specific management actions that have been proposed by SAFMC and three letters based their comments on the proposed re-designation by questioning the appropriateness of the SAFMC's proposed management actions. NMFS appreciates the input of these informed fishery participants regarding proposed management actions for the dolphin and wahoo fisheries. Nevertheless, comments on the proposed management measures are beyond the scope of this request for comments, and are not addressed here. When the SAFMC submits the FMP for the dolphin and wahoo fisheries for review by the Secretary, NMFS will provide the public with the opportunity to comment on the proposed management actions.

Comment 1: One comment supported the designation of the U.S. Atlantic coast as a justified alternate management unit. Given that the proposed FMP for the dolphin and wahoo fisheries is not designed to control fishing mortality but to maintain status quo in a healthy fishery, fishing on the unmanaged portion of the stock in the Gulf of Mexico and Caribbean regions will not materially effect the SAFMC goals.

Response: NMFS still believes that a jointly developed FMP would best meet Magnuson-Stevens Act requirements to manage stocks throughout their ranges. Nevertheless, NMFS recognizes that the NSGs allow for alternative management units, encompassing a portion of the range of the stocks, if complementary management is planned for other geographic areas or if the unmanaged portions of the stocks are immaterial to proper management within the area under consideration for the alternate management unit, especially if designated alternate management units are specifically relevant to the FMP's objectives. In the case of the dolphin and wahoo FMP, social and economic issues are identified as the SAFMC's primary objectives in the FMP. No similar economic and social issues requiring management have been identified by the GMFMC or CFMC for their respective areas of jurisdiction. Therefore, NMFS, on behalf of the Secretary, is approving the SAFMC request.

Comment 2: One commenter opposed the SAFMC request to manage beyond their specific area of jurisdiction (North Carolina to the Florida Keys) to include the entire U.S. Atlantic coast.

Response: Under the existing designation by the Secretary (64 FR 33468, June 23, 1999) to develop a joint FMP, the SAFMC already has the authority to manage these stocks in the U.S. Atlantic region. The MAFMC and NEFMC agreed not to manage the stocks directly, but to serve in an advisory capacity to the SAFMC. Thus, designating the SAFMC to develop an FMP for dolphin and wahoo fisheries along the U.S. Atlantic coast does not alter the existing range of the SAFMC jurisdiction for these fisheries, nor the ability to establish management measures for that specific region.

Comment 3: Six comments were received suggesting that the SAFMC's membership gives preference to the recreational sector, and without representation of the commercial pelagic longline fishery, the SAFMC would not manage the dolphin and wahoo stocks fairly and equitably among all fishing sectors. To best address management of these species that have distributions extending beyond any one Council's geographical area of authority, dolphin and wahoo should be managed as highly migratory species (HMS) by NMFS in conjunction with the International Commission for the Conservation of Atlantic Tunas and all the affected Councils. If NMFS does not assume authority to manage these species as HMS, the current five-council process should be maintained to ensure fair and equitable management throughout the range of the stocks.

Response: NMFS disagrees with the comments alleging bias in the composition and position of the South Atlantic Council membership. In approving candidates for Council membership, the Secretary and his designees endeavor to balance equitably the representation of diverse user groups and resource managers.

As for ensuring fair and equitable management, it is NMFS' responsibility to ensure that any management measures developed under an FMP and its amendments comply fully with the national standards, other provisions of the Magnuson-Stevens Act, and other applicable law before these measures would be approved and implemented.

Additionally, some of these commenters appeared to misunderstand the existing June 23, 1999, designation by the Secretary (64 FR 33468) to develop a joint FMP. It is true that the FMP would have needed approval by a majority of the voting members, present and voting, of the SAFMC, GMFMC, and CFMC. However, each Council would thereafter have the authority to establish independently the regulations pertaining to the fisheries in its respective area of jurisdiction. Therefore, except for initially approving the FMP as a whole, the Councils would not be at liberty to oppose a management action that did not affect their respective region. For example, in the most recent draft of the joint FMP, the SAFMC proposed a size limit for dolphin along the U.S. Atlantic coast, but the GMFMC and CFMC did not establish a size limit in their respective areas, nor could the GMFMC or CFMC oppose that proposed SAFMC action. The decision to approve or disapprove a management action lies solely with the Secretary. As with the 1999 designation, under the new designation, the MAFMC and NEFMC would remain as advisors to the SAFMC for management actions that affected their respective areas of jurisdiction.

In regards to the establishment of a broader, international-based management strategy, NMFS outlined its position regarding the designation of a restricted alternative management unit that includes only the U.S. Atlantic waters in the response to Comment 1. The dolphin and wahoo stocks are not overfished, nor are they undergoing overfishing, and management as proposed by the SAFMC for its area of authority for these stocks (the U.S. Atlantic coast) is intended to address issues of concern within this area. NMFS and the SAFMC will continue to monitor the status of these stocks, and should the need arise to manage these stocks on a broader scale, an alternative management strategy can be devised.

Authority: 16 U.S.C. 1801 et seq.

Dated: January 23, 2003.
Rebecca Lent,
Deputy Assistant Administrator for Regulatory Programs,National Marine Fisheries Service.

[FR Doc. 03-2030 Filed 1-28-03; 8:45 am]

BILLING CODE 3510-22-S